LEGAL SERVICES CORPORATION

Request for Comments on LSC's Draft 2021-2024 Strategic Plan

AGENCY: Legal Services Corporation.

ACTION: Request for comments.

SUMMARY: The Legal Services Corporation (“LSC”) Board of Directors (“Board”) is seeking comments on its draft 2021-2024 LSC Strategic Plan. The LSC Board previously sought comments on its 2017-2020 Strategic Plan, including comments on whether the existing goals and initiatives are appropriate and whether new goals or initiatives should be added or substituted. After receiving comments and recommendations from stakeholders, LSC now solicits comments on the proposed revisions to the Plan for 2021-2024.

DATES: All comments and recommendations must be received on or before the close of business on April 1, 2021.

ADDRESSES: You may submit comments by email to LSCStrategicPlan@lsc.gov; cc: Rebecca Fertig Cohen, Chief of Staff and Corporate Secretary, cohenr@lsc.gov.

Instructions: All comments should be addressed to Rebecca Fertig Cohen, Chief of Staff, Legal Services Corporation. Include “Comments on LSC's Draft 2021-2024 Strategic Plan” as the heading or subject line for all comments submitted.

FOR FURTHER INFORMATION CONTACT: Rebecca Fertig Cohen, cohenr@lsc.gov, (202) 295-1576.

SUPPLEMENTARY INFORMATION: The Legal Services Corporation (“LSC”) Board of Directors (“Board”) is is seeking comments on LSC's draft 2021-2024 LSC Strategic Plan. The LSC Board previously sought comments on its 2017-2020 Plan, including comments on whether the existing goals and initiatives were appropriate and whether new goals or initiatives should be added or substituted. After receiving comments and recommendations from stakeholders, LSC now solicits comments on the proposed revisions to the Plan for 2021-2024.

Based on the feedback provided by stakeholders, LSC proposes to continue working on the three goals identified in the 2017-2020 Strategic Plan over the next four years with only minor changes in focus. The three goals in the draft 2021-2024 strategic plan are:

1. Maximize the availability, quality, and effectiveness of the services its grantees provide to eligible low-income individuals by working with grantees to improve their organizational and operational capacity.

2. Expand LSC's role as a convener and leading voice for access to justice and increased civil legal services for eligible persons living in poverty in the United States.

3. Achieve the highest standards of management, business operations, and fiscal responsibility.

The full draft 2021-2024 Strategic Plan is available at https://lsc-live.box.com/s/6rhxhm2zhrtvbh4k1pgpux5ujhggvueq.

Dated: February 23, 2021.
Stefanie Davis,
Senior Assistant General Counsel.

[FR Doc. 2021-04204 Filed 3-1-21; 8:45 am]

BILLING CODE 7050-01-P